OFFICE OF SPECIAL COUNSEL

Senior Executive Service Performance Board

AGENCY: Office of Special Counsel

ACTION: Notice.

SUMMARY: The Office of Special Counsel (OSC) publishes the names of the persons selected to serve on its SES Performance Review Board (PRB). This notice supersedes all previous notices of the PRB membership.

DATES: October 17, 2016.

FOR FURTHER INFORMATION CONTACT: Kenneth Hendricks, Acting General Counsel, U.S. Office of Special Counsel, 1730 M Street NW., Suite 218, Washington, DC 20036, (202) 254-3600

SUPPLEMENTARY INFORMATION: Section 4314(c) of Title 5, U.S.C. requires each agency to establish, in accordance with regulations prescribed by the Office of Personnel Management, one or more PRBs. The PRB shall review and evaluate the initial appraisal of a senior executive's performance by the supervisor, along with any response by the senior executive, and make recommendations to the final rating authority relative to the performance of the senior executive.

The following individuals have been selected to serve on the OSC's PRB: Bruce Fong, Associate Special Counsel; Bruce Gipe, Chief Operating Officer; Louis Lopez, Associate Special Counsel; Anne Wagner, Associate Special Counsel.

Dated: October 11, 2016
Bruce Gipe,
Chief Operating Officer.

[FR Doc. 2016-24976 Filed 10-14-16; 8:45 am]

BILLING CODE 7405-01-P